FARM CREDIT ADMINISTRATION

12 CFR Part 615

RIN 3052-AC54

Funding and Fiscal Affairs, Loan Policies and Operations, and Funding Operations; Liquidity and Funding; Correction

AGENCY: Farm Credit Administration.

ACTION: Final rule; correction.

SUMMARY: The Farm Credit Administration (FCA) published a final rule in the Federal Register on April 18, 2013 to strengthen liquidity risk management at Farm Credit System (System) banks, improve the quality of assets in their liquidity reserves, and bolster the ability of System banks to fund their obligations and continue operations during times of economic, financial, or market adversity. This document corrects that rule by replacing a term that was inadvertently used.

DATES: Effective Date: This regulation will be effective 30 days after publication in the Federal Register during which either or both Houses of Congress are in session. We will publish a notice of the effective date in the Federal Register.

FOR FURTHER INFORMATION CONTACT: David Lewandrowski, Senior Policy Analyst, Office of Regulatory Policy, Farm Credit Administration, 1501 Farm Credit Drive, McLean, VA, (703) 883-4498, TTY (703) 883-4056; or Richard A. Katz, Senior Counsel, Office of General Counsel, Farm Credit Administration, McLean, VA 22102-5090, (703) 883-4020, TTY (703) 883-4056.

SUPPLEMENTARY INFORMATION: The FCA published a document in the Federal Register on April 18, 2013, (78 FR 23438) amending part 615. In FR Doc. 2013-09166, make the following corrections on two separate pages.

1. Remove the term “book” and add in its place, the term “market” on page 23453, in the first column, line 18.

§ 615.5134 [Corrected]

2. On page 23456, in the first column, line 4, in § 615.5134(e), remove the term “book” and add in its place, the term “market”.

Dated: May 1, 2013.
Dale L. Aultman,
Secretary, Farm Credit Administration Board.

[FR Doc. 2013-10820 Filed 5-7-13; 8:45 am]

BILLING CODE 6705-01-P